DEPARTMENT OF COMMERCE

National Oceanic and Atmospheric Administration

50 CFR Part 622

[Docket Nos. 090206140-91081-03 and 120405260-4258-02; RTID 0648-XE399]

Revised Reporting Requirements Due to Catastrophic Conditions for Federal Seafood Dealers, Individual Fishing Quota Dealers, and Charter Vessels and Headboats in Portions of Florida

AGENCY: National Marine Fisheries Service (NMFS), National Oceanic and Atmospheric Administration (NOAA), Commerce.

ACTION: Temporary rule; determination of catastrophic conditions.

SUMMARY: In accordance with the regulations implementing the individual fishing quota (IFQ) program, Federal dealer reporting, and Federal charter vessel and headboat (for-hire vessel) reporting specific to the reef fish fishery in the Gulf of Mexico (Gulf), coastal migratory pelagic (CMP) fisheries in the Gulf and Atlantic, snapper-grouper fishery in the South Atlantic, and dolphin and wahoo fishery in the Atlantic, the Regional Administrator (RA), NMFS Southeast Region, has determined that Hurricane Milton has caused catastrophic conditions in the Gulf and the Atlantic for certain Florida counties. This temporary rule authorizes, in the affected area described in this temporary rule, any Federal dealer or for-hire electronic reporting program participant who does not have access to electronic reporting to delay reporting, and any IFQ dealer to use paper-based forms, if necessary, for basic required administrative functions, e.g., landing transactions. This temporary rule is intended to facilitate continuation of IFQ and electronic reporting operations during the period of catastrophic conditions.

DATES: The RA is authorizing Federal dealers, for-hire electronic reporting program participants, and IFQ dealers in the affected area to use revised reporting methods from October 16, 2024, through November 15, 2024.

FOR FURTHER INFORMATION CONTACT: IFQ Customer Service, Britni Lavine, telephone: 866-425-7627, email: nmfs.ser.catchshare@noaa.gov. Federal dealer reporting, Fisheries Monitoring Branch, telephone: 305-361-4581. NMFS Southeast For-Hire Integrated Electronic Reporting Program: 1-833-707-1632.

SUPPLEMENTARY INFORMATION: The reef fish fishery of the Gulf is managed under the Fishery Management Plan (FMP) for the Reef Fish Resources of the Gulf of Mexico (Reef Fish FMP), prepared by the Gulf of Mexico Fishery Management Council (Gulf Council). The CMP fishery is managed under the FMP for CMP Resources in the Gulf of Mexico and Atlantic Region (CMP FMP), prepared by the Gulf Council and South Atlantic Fishery Management Council (South Atlantic Council). The snapper-grouper fishery in the South Atlantic is managed under the FMP for the Snapper-Grouper Fishery of the South Atlantic Region, prepared by the South Atlantic Council. The dolphin and wahoo fishery in the Atlantic is managed under the FMP for the Dolphin and Wahoo Fishery of the Atlantic, prepared by the South Atlantic Council. The Secretary implemented these FMPs through regulations at 50 CFR part 622 under the authority of the Magnuson-Stevens Fishery Conservation and Management Act (Magnuson-Stevens Act).

The Generic Dealer Amendment established Federal dealer reporting requirements for federally permitted dealers in the Gulf and South Atlantic (79 FR 19490, April 9, 2014). The Headboat Reporting Framework Action established the Southeast Region Headboat Survey (SRHS) electronic reporting program (79 FR 6097, February 3, 2014). The final rule implementing the South Atlantic For-Hire Reporting Amendment included reporting requirements for South Atlantic snapper-grouper, Atlantic dolphin and wahoo, and CMP owners and operators of South Atlantic and applicable Atlantic for-hire vessels (85 FR 10331, February 24, 2020). Amendment 26 to the Reef Fish FMP established an IFQ program for the commercial red snapper component of the Gulf reef fish fishery (71 FR 67447, November 22, 2006). Amendment 29 to the Reef Fish FMP established an IFQ program for the commercial grouper and tilefish components of the Gulf reef fish fishery (74 FR 44732, August 31, 2009). Regulations implementing these Gulf and South Atlantic dealer reporting requirements, IFQ programs, and for-hire reporting requirements require that Federal dealers, IFQ dealers, and for-hire reporting program participants have access to a computer and internet. However, these regulations also specify that during catastrophic conditions, as determined by the RA, the RA may waive or modify the reporting time requirements for Federal dealers and authorize IFQ dealers to use paper-based forms to complete administrative functions for the duration of the catastrophic conditions. The RA must determine that catastrophic conditions exist, specify the duration of the catastrophic conditions, and specify which participants or geographic areas are deemed affected.

Hurricane Milton made landfall in the U.S. in Sarasota County, Florida, in the Gulf as a Category 3 hurricane on October 9, 2024. Strong winds and flooding from this hurricane impacted communities along coastal Florida in both the Gulf and South Atlantic. This resulted in power outages and damage to homes, businesses, and infrastructure. As a result, the RA has determined that catastrophic conditions exist in the Gulf for the Florida counties of Citrus, Hernando, Pasco, Pinellas, Hillsborough, Manatee, Sarasota, and Charlotte. For the South Atlantic, the RA has determined that catastrophic conditions also exist for the Florida counties of Brevard, Indian River, and Saint Lucie.

Through this temporary rule, the RA is authorizing Federal dealers, SRHS program participants, and South Atlantic Federal for-hire operators to delay electronic reporting to NMFS and IFQ dealers in the affected area to use paper-based forms, from October 16, 2024, through November 15, 2024. NMFS will provide additional notification to affected dealers via NOAA Weather Radio, Fishery Bulletins, and other appropriate means. NMFS will continue to monitor and re-evaluate the areas and duration of the catastrophic conditions, as necessary.

Dealers may delay electronic reporting of trip tickets to NMFS during catastrophic conditions. Dealers are to report all landings to NMFS as soon as possible. Assistance for Federal dealers in affected area is available from the NMFS Fisheries Monitoring Branch at 1-305-361-4581.

SRHS program participants may delay electronic reporting of logbooks to NMFS during catastrophic conditions. SRHS participants are to report all logbooks to NMFS as soon as possible.

South Atlantic Federal for-hire operators may delay electronic reporting of logbooks and “Did Not Fish” reports to NMFS during catastrophic conditions. South Atlantic Federal for-hire operators are to report all landings or Did Not Fish reports to NMFS as soon as possible. Assistance for Federal for-hire operators in the affected area is available from the NMFS Southeast For-Hire Integrated Electronic Reporting Program at 1-833-707-1632, Monday through Friday, between 8 a.m. and 4:30 p.m., Eastern Time. The electronic systems for submitting information to NMFS will continue to be available to all Federal for-hire operators, and for-hire operators are encouraged to continue using these systems, if accessible.

NMFS previously provided Federal IFQ dealers with the necessary paper forms and instructions for submission in the event of catastrophic conditions. Paper forms are also available from the RA upon request. The electronic systems for submitting information to NMFS will continue to be available to all dealers, and dealers in the affected area are encouraged to continue using these systems, if accessible. The administrative program functions available to IFQ participants in the area affected by catastrophic conditions will be limited under the paper-based system. There will be no mechanism for transfers of IFQ shares or allocation under the paper-based system in effect during catastrophic conditions. Assistance in complying with the requirements of the paper-based system will be available via the NMFS Catch Share Support line, 1-866-425-7627 Monday through Friday, between 8 a.m. and 4:30 p.m., Eastern Time.

Classification

NMFS issues this action pursuant to section 305(d) of the Magnuson-Stevens Act. This action is consistent with the regulations in 50 CFR 622.5(c)(1)(iii), 622.21(a)(3)(iii), 622.22(a)(3)(iii), 622.26(b)(3) (2020), 622.176(b)(3), 622.271(b)(3), and 622.374(b)(3) (2020), which were issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the final rules implementing the Gulf IFQ programs, the Gulf and South Atlantic Federal dealer reporting requirements, and Gulf and South Atlantic for-hire vessel reporting requirements, and the SRHS reporting requirements have already been subject to notice and public comment. These rules authorize the RA to determine when catastrophic conditions exist, and which participants or geographic areas are deemed affected by catastrophic conditions. The final rules also authorize the RA to provide timely notice to affected participants via publication of notification in the Federal Register, NOAA Weather Radio, Fishery Bulletins, and other appropriate means. All that remains is to notify the public that catastrophic conditions exist, that Federal dealers and may use paper forms, and that Federal dealers, South Atlantic for-hire permit holders, and SRHS participants may submit delayed reports. Such procedures are also contrary to the public interest because of the need to immediately implement this action because affected dealers continue to receive these species in the affected area and fishermen continue to operate, and need a means of completing their landing transactions and logbook reports. With the power outages and damages to infrastructure that have occurred in the affected area due to Hurricane Milton, numerous businesses are unable to complete landings transactions, fishing reports, and dealer reports electronically. In order to continue with their businesses, IFQ dealers need to be aware they can report using the paper forms, and Federal dealers, South Atlantic for-hire permit holders, and SRHS participants need to be aware that they can delay reporting.

For the aforementioned reasons, there is good cause to waive the 30-day delay in the effectiveness of this action under 5 U.S.C. 553(d)(3).

Authority: 16 U.S.C. 1801 et seq.

Dated: October 16, 2024.
Karen H. Abrams,
Acting Director, Office of Sustainable Fisheries, National Marine Fisheries Service.

[FR Doc. 2024-24276 Filed 10-16-24; 4:15 pm]

BILLING CODE 3510-22-P